DEPARTMENT OF HOMELAND SECURITY

Federal Emergency Management Agency

[Docket ID FEMA-2010-0010]

Disaster Assistance Fact Sheet DAP9580.107, Child Care Services

AGENCY: Federal Emergency Management Agency, DHS.

ACTION: Notice of availability.

SUMMARY: In this document the Federal Emergency Management Agency (FEMA) is providing notice of the availability of the final Disaster Assistance Fact Sheet DAP9580.107, Child Care Services.

DATES: The fact sheet is effective March 5, 2010.

ADDRESSES: The fact sheet is available online at http://www.regulations.gov under docket ID FEMA-2010-0010 and on FEMA's Web site at http://www.fema.gov. You may also view a hard copy of the fact sheet at the Office of Chief Counsel, Federal Emergency Management Agency, Room 835, 500 C Street, SW., Washington, DC 20472-3100.

FOR FURTHER INFORMATION CONTACT: Lu Juana Richardson, Federal Emergency Management Agency, 500 C Street, SW., Washington, DC 20472, 202-646-4014, or via e-mail at LuJuana.Richardson@dhs.gov.

SUPPLEMENTARY INFORMATION: The fact sheet identifies child care services provided during federally declared major disasters and emergencies that are eligible for reimbursement under FEMA's Public Assistance Program. The fact sheet identifies eligible applicants, addresses the provision of child care services in emergency sheltering and temporary relocation facilities, and addresses the repair, restoration, or replacement of child care facilities.

Authority: 42 U.S.C. 5121-5207; 44 CFR part 206.

Dated: March 15, 2010.
David J. Kaufman,
Director, Office of Policy and Program Analysis, Federal Emergency Management Agency.

[FR Doc. 2010-6349 Filed 3-22-10; 8:45 am]

BILLING CODE 9111-23-P